NATIONAL AERONAUTICS AND SPACE ADMINISTRATION

[Notice: (21-009)]

NASA Astrophysics Advisory Committee; Meeting

AGENCY: National Aeronautics and Space Administration.

ACTION: Notice of meeting.

SUMMARY: In accordance with the Federal Advisory Committee Act, Public Law 92-463, as amended, the National Aeronautics and Space Administration (NASA) announces a meeting of the Astrophysics Advisory Committee. This Committee reports to the Director, Astrophysics Division, Science Mission Directorate, NASA Headquarters. The meeting will be held for the purpose of soliciting, from the scientific community and other persons, scientific and technical information relevant to program planning.

DATES: Monday, March 15, 2021, 11:00 a.m.-5:00 p.m.; Tuesday, March 16, 2021, 11:00 a.m.-5:00 p.m.; and Wednesday, March 17, 2021, 11:00 a.m.-5:00 p.m.; Eastern Time.

FOR FURTHER INFORMATION CONTACT: Ms. KarShelia Henderson, Science Mission Directorate, NASA Headquarters, Washington, DC 20546, (202) 358-2355, or khenderson@nasa.gov.

SUPPLEMENTARY INFORMATION: The meeting will be available to the public by WebEx.

On Monday, March 15, the event address for attendees is: https://nasaenterprise.webex.com/nasaenterprise/j.php?MTID=md56c2364ad7f625bf9121430ef9d85f9, the meeting number is 199 340 9228, and meeting password is MJh8JVDV89@.

On Tuesday, March 16, the event address for attendees is: https://nasaenterprise.webex.com/nasaenterprise/j.php?MTID=m1ce0a71960e457179b7e85dcc41de62b, the meeting number is 199 888 1998, and meeting password is csAvpYM2@78.

On Wednesday, March 17, the event address for attendees is: https://nasaenterprise.webex.com/nasaenterprise/j.php?MTID=m26744d6e150f086b3cf3ed99bd6649fa, the meeting number is 199 029 2743, and meeting password is 9skWYje8P@3.

To join by telephone, the numbers are: 1-929-251-9612 or 1-415-527-5035, for each day.

The agenda for the meeting includes the following topics:

—Astrophysics Division Update

—Updates on Specific Astrophysics Missions

—Reports from the Program Analysis Groups

—Reports from Specific Research and Analysis Programs

The agenda will be posted on the Astrophysics Advisory Committee web page: https://science.nasa.gov/researchers/nac/science-advisory-committees/apac.

The public may submit and upvote comments/questions ahead of the meeting through the website https://arc.cnf.io/sessions/mkky/#!/dashboard that will be opened for input on March 1, 2021.

It is imperative that the meeting be held on this date to accommodate the scheduling priorities of the key participants.

Patricia Rausch,
Advisory Committee Management Officer, National Aeronautics and Space Administration.

[FR Doc. 2021-03372 Filed 2-18-21; 8:45 am]

BILLING CODE 7510-13-P